DEPARTMENT OF HEALTH AND HUMAN SERVICES

[Document Identifier OS-0990-0388]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Let's Move! Cities, Towns, and Counties—OMB No. 0990-0388—Extension—Office of the Assistant Secretary for Planning and Evaluation (ASPE).

Abstract: The Office of the Assistant Secretary for Planning and Evaluation (ASPE) is requesting an extension from the Office of Management and Budget (OMB) to conduct a survey of public sector organizations for the Let's Move! Cities, Towns and Counties Initiative. Let's Move! is a comprehensive initiative, launched by the First Lady, dedicated to solving the challenge of childhood obesity within a generation. Combining comprehensive strategies with common sense, Let's Move! is about:

• Putting children on the path to a healthy future during their earliest months and years;

• Giving parents helpful information and fostering environments that support healthy choices;

• Providing healthier foods in our schools;

• Ensuring that every family has access to healthy, affordable food; and

• Helping kids become more physically active.

Let's Move! Cities, Towns, and Counties emphasizes the unique ability of communities to solve the challenge locally, and the critical leadership mayors and elected officials can provide to bring communities together and spur action. The initiative is designed to encourage mayors and elected officials to adopt a long-term, sustainable and holistic approach to fighting childhood obesity.

This activity is requesting comment on the burden for a baseline survey for local or county officials who have chosen to participate in Let's Move! Cities, Towns, and Counties. The survey requests information about the activities the locality is choosing to undertake. The responses to these questions will be used to show progress and successes over time for localities participating in Let's Move! Cities, Towns, and Counties. Separate notices will be published for subsequent surveys.

Estimated Annualized Burden Table
Type of respondent | Form | Number of respondents | Number of responses per respondent | Average burden hours per response | Total burden hours
Government Official (city, town, county) | Baseline Survey | 1,000 | 1 | 15/60 | 250

Keith A. Tucker,
Office of the Secretary, Paperwork Reduction Act Reports Clearance Officer.

[FR Doc. 2012-13331 Filed 5-31-12; 8:45 am]

BILLING CODE 4150-05-P